DEPARTMENT OF THE INTERIOR

Bureau of Land Management

[WY-957-02-1420-BJ]

Survey Plat Filings; Wyoming

AGENCY: Bureau of Land Management, Interior.

ACTION: Notice of filing of plats of survey, Wyoming.

SUMMARY: The Bureau of Land Management (BLM) has filed the plats of survey of the lands described below in the BLM Wyoming State Office, Cheyenne, Wyoming, on November 14, 2002.

FOR FURTHER INFORMATION CONTACT: Bureau of Land Management, 5353 Yellowstone Road, PO Box 1828, Cheyenne, Wyoming 82003.

SUPPLEMENTARY INFORMATION: These surveys were executed at the request of the Bureau of Land Management, and are necessary for the management of resources. The lands surveyed are:

The plat representing the dependent resurvey of a portion of the east boundary, and a portion of the subdivisional lines, and the subdivision of certain sections, Township 27 North, Range 85 West, Sixth Principal Meridian, Wyoming, was accepted November 14, 2002.

The plat representing the dependent resurvey of portion of the Seventh Standard Parallel North, through Ranges 84 and 85 West, a portion of the east boundary, and a portion of the subdivisional lines, and the subdivision of certain sections, Township 28 North, Range 85 West, Sixth Principal Meridian, Wyoming, was accepted November 14, 2002.

The plat representing the dependent resurvey of a portion of the subdivisional lines, and the subdivision of section 12, Township 29 North, Range 86 West, Sixth Principal Meridian, Wyoming, was accepted November 14, 2002.

The plat representing the dependent resurvey of a portion of the east boundary, and a portion of the subdivisional lines, and the subdivision of section 25, Township 30 North, Range 86 West, Sixth Principal Meridian, Wyoming, was accepted November 14, 2002.

Copies of the preceding described plats are available to the public.

Dated: December 20, 2002.
John P. Lee,
Chief Cadastral Surveyor, Division of Support Services.

[FR Doc. 02-32682 Filed 12-26-02; 8:45 am]

BILLING CODE 4310-22-P